DEPARTMENT OF LABOR

Employment and Training Administration

[TA-W-56,222]

Dana Undies, Colquitt, GA; Notice of Termination of Investigation

Pursuant to section 221 of the Trade Act of 1974, an investigation was initiated on December 16, 2004, in response to a petition filed by the State of Georgia Department of Labor on behalf of workers at Dana Undies, Colquitt, Georgia.

The Department issued a negative determination (TA-W-55,395) applicable to the petitioning group of workers on September 14, 2004. No new information or change in circumstances is evident which would result in a reversal of the Department's previous determination. Consequently, further investigation would serve no purpose, and the investigation has been terminated.

Signed in Washington, DC this 4th day of January, 2005.
Richard Church,
Certifying Officer, Division of Trade Adjustment Assistance.

[FR Doc. E5-492 Filed 2-7-05; 8:45 am]

BILLING CODE 4510-30-P